DEPARTMENT OF ENERGY

10 CFR Part 430 and 431

[EERE-2020-BT-STD-0018]

Energy Conservation Program for Appliance Standards: Energy Conservation Standards for Residential Furnaces and Commercial Water Heaters; Notice of Final Interpretive Rule

AGENCY: Office of Energy Efficiency and Renewable Energy, Department of Energy.

ACTION: Extension of public comment period.

SUMMARY: In response to a petition for rulemaking submitted on October 18, 2018 (Gas Industry Petition), the Department of Energy (DOE) published that petition in the Federal Register on November 1, 2018, for public review and input, and DOE subsequently published a proposed interpretive rule in the Federal Register on July 11, 2019. After carefully considering the public comments on its proposed interpretive rule, DOE tentatively determined to consider a more involved class structure which turns on maintenance of compatibility with existing venting categories, and published a notice of supplemental proposed interpretive rulemaking (“NOPIR”) on September 24, 2020. On September 25, 2020, and October 6, 2020, DOE received comments requesting extension of the comment period on the NOPIR. On September 29, 2020, DOE received a comment from the submitters of the Gas Industry Petition requesting prompt action on their petition. Balancing these competing requests, DOE is extending the public comment period for submitting comments and data on the NOPIR to November 9, 2020.

DATES: The comment period for the NOPIR published on September 24, 2020 (85 FR 60090) is extended until November 9, 2020. DOE will accept comments, data, and information regarding this NOPIR received no later than November 9, 2020.

ADDRESSES: Interested persons are encouraged to submit comments, identified by “Energy Conservation Standards for Residential Furnaces and Commercial Water Heaters,” by any of the following methods:

Federal eRulemaking Portal: http://www.regulations.gov. Follow the instructions for submitting comments.

Email: ResFurnaceCommWaterHeater2018STD0018@ee.doe.gov. Include Docket No. EERE-2018-BT-STD-0018 in the subject line of the message. Submit electronic comments in WordPerfect, Microsoft Word, PDF, or ASCII file format, and avoid the use of special characters or any form of encryption.

Postal Mail: Appliance and Equipment Standards Program, U.S. Department of Energy, Building Technologies Office, Mailstop EE-5B, 1000 Independence Avenue SW, Washington, DC 20585-0121. If possible, please submit all items on a compact disc (CD), in which case it is not necessary to include printed copies.

Hand Delivery/Courier: Appliance and Equipment Standards Program, U.S. Department of Energy, Building Technologies Office, 950 L'Enfant Plaza SW, Suite 600, Washington, DC 20024. Telephone: (202) 287-1445. If possible, please submit all items on a CD, in which case it is not necessary to include printed copies.

No telefacsimiles (faxes) will be accepted. For detailed instructions on submitting comments and additional information, see section IV of this document (Public Participation).

Docket: For access to the docket to read background documents, or comments received, go to the Federal eRulemaking Portal at: http://www.regulations.gov/docket?D=EERE-2018-BT-STD-0018.

FOR FURTHER INFORMATION CONTACT:

Ms. Lysia Bowling, Senior Advisor, U.S. Department of Energy, Office of Energy Efficiency and Renewable Energy, 1000 Independence Avenue SW, Washington, DC 20585. Telephone: (202) 430-1257. Email: Lysia.Bowling@ee.doe.gov.

Mr. Eris Stas, U.S. Department of Energy, Office of the General Counsel, 1000 Independence Avenue SW, Washington, DC 20585. Telephone: (202) 586-5827. Email: Eric.Stas@hq.doe.gov.

For further information on how to submit a comment or review other public comments and the docket contact the Appliance and Equipment Standards Program staff at (202) 287-1445 or by email: ApplianceStandardsQuestions@ee.doe.gov.

SUPPLEMENTARY INFORMATION: In response to a petition for rulemaking submitted on October 18, 2018, the Department of Energy (DOE) published that petition in the Federal Register on November 1, 2018 (83 FR 54883), for public review and input, and DOE subsequently published a proposed interpretive rule in the Federal Register on July 11, 2019. (84 FR 33011) After carefully considering the public comments on its proposed interpretive rule, DOE tentatively determined to consider a more involved class structure which turns on maintenance of compatibility with existing venting categories, and published a NOPIR on September 24, 2020. (85 FR 60090) On September 25, 2020, and October 6, 2020, DOE received comments from A.O. Smith and Lennox, respectively, requesting extension of the comment period on the NOPIR. Both commenters requested additional time due their assertion that the NOPIR addressed multiple product types and raised complex issues. On September 29, 2020, DOE received a comment from the submitters of the Gas Industry Petition requesting prompt action on their petition. The submitters of the Gas Industry Petition assert that the issues raised in the NOPIR did not have any material bearing on the justification for the specific findings in their Petition, which they claim DOE has already recognized in issuance of the original proposed interpretive rule, and therefore urged prompt action on their Petition. DOE has reviewed these competing requests and considered the benefit to stakeholders in providing additional time to review and comment on the NOPIR. Accordingly, in seeking to balance the interests at issue, DOE has determined that an extension of the comment period is appropriate, and is hereby extending the comment period until November 9, 2020.

Signing Authority

This document of the Department of Energy was signed on October 16, 2020, by Alexander N. Fitzsimmons, Deputy Assistant Secretary for Energy Efficiency, Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 16, 2020.
Treena V. Garrett,
Federal Register Liaison Officer, U.S. Department of Energy.

[FR Doc. 2020-23318 Filed 10-21-20; 8:45 am]

BILLING CODE 6450-01-P